DEPARTMENT OF LABOR

Mine Safety and Health Administration

Proposed Extension of Existing Information Collection; Occupational Noise Exposure

AGENCY: Mine Safety and Health Administration, Labor.

ACTION: Request for public comments.

SUMMARY: The Department of Labor, as part of its continuing effort to reduce paperwork and respondent burden, conducts a pre-clearance consultation program to provide the general public and Federal agencies with an opportunity to comment on proposed and/or continuing collections of information in accordance with the Paperwork Reduction Act of 1995. This program helps to assure that requested data can be provided in the desired format, reporting burden (time and financial resources) is minimized, collection instruments are clearly understood, and the impact of collection requirements on respondents can be properly assessed.

The Mine Safety and Health Administration (MSHA) is soliciting comments concerning the proposed extension of an existing information collection, OMB Control Number 1219-0120, Occupational Noise Exposure. OMB last approved this information collection request (ICR) on March 10, 2009.

DATES: All comments must be postmarked or received by midnight Eastern Daylight Time on May 21, 2012.

ADDRESSES: Comments must be identified with “OMB Control Number 1219-0120” and sent to both the Office of Management and Budget (OMB) and MSHA. Comments to MSHA may be sent by any of the methods listed below.

• Federal E-Rulemaking Portal: http://www.regulations.gov. Follow the on-line instructions for submitting comments.

• Facsimile: 202-693-9441, include “OMB 1219-0120” in the subject line of the message.

• Regular Mail or Hand Delivery: MSHA, Office of Standards, Regulations, and Variances, 1100 Wilson Boulevard, Room 2350, Arlington, VA 22209-3939. If hand delivery, sign in at the receptionist's desk on the 21st floor.

Comments to OMB may be sent by mail addressed to the Office of Information and Regulatory Affairs, Office of Management and Budget, New Executive Office Building, 725 17th Street NW., Washington, DC 20503, Attn: Desk Officer for MSHA.

FOR FURTHER INFORMATION CONTACT: Greg Moxness, Chief, Economic Analysis Division, Office of Standards, Regulations, and Variances, MSHA, at moxness.greg@dol.gov (email); 202-693-9440 (voice); or 202-693-9441 (facsimile).

SUPPLEMENTARY INFORMATION:

I. Background

This information collection was originally titled “Noise exposure assessment; audiometric testing, evaluation, and records and training in all mines.” OMB 1219-0120 has been renamed “Occupational Noise Exposure” to more clearly focus the title and purpose of the information collection on its central concern for the prevention of hearing loss resulting from occupational noise exposure.

Noise is a harmful physical agent and one of the most pervasive health hazards in mining. Repeated exposure to high levels of sound over time causes occupational noise-induced hearing loss (NIHL), a serious, often profound physical impairment in mining, with far-reaching psychological and social effects. NIHL can be distinguished from aging and other factors that can contribute to hearing loss and it can be prevented. According to the National Institute for Occupational Safety and Health (NIOSH), NIHL is among the “top ten” leading occupational illnesses and injuries.

For many years, NIHL was regarded as an inevitable consequence of working in a mine. Mining, an intensely mechanized industry, relies on drills, crushers, compressors, conveyors, trucks, loaders, and other heavy-duty equipment for the excavation, haulage, and processing of material. This equipment creates high sound levels, exposing machine operators as well as employees working nearby. The Mine Safety and Health Administration (MSHA), the Occupational Safety and Health Administration, the military, and other organizations around the world have established and enforced standards to reduce the loss of hearing. Quieter equipment, isolation of workers from noise sources, and limiting the time workers are exposed to noise are among the many well-accepted methods that will prevent the costly incidence of NIHL.

MSHA's information collection request, OMB 1219-0120, addresses eight standards as follows:

30 CFR Citation | Title
Part 62 | Occupational Noise Exposure
§ 62.110 | Noise exposure assessment.
§ 62.130 | Permissible exposure level.
§ 62.171 | Audiometric test procedures.
§ 62.172 | Evaluation of audiograms.
§ 62.174 | Follow-up corrective measures when a standard threshold shift is detected.
§ 62.175 | Notification of results; reporting requirements.
§ 62.180 | Training.
§ 62.190 | Records.

Records of miner exposures to noise are necessary so that mine operators and MSHA can evaluate the need for and effectiveness of engineering controls, administrative controls, and personal protective equipment to protect miners from harmful levels of noise that can result in hearing loss. However, the Agency believes that extensive records for this purpose are not needed. These requirements are a performance-oriented approach to monitoring. Records of miner hearing examinations enable mine operators and MSHA to ensure that the controls are effective in preventing NIHL for individual miners. Records of training are needed to confirm that miners receive the information they need to become active participants in hearing conservation efforts.

II. Desired Focus of Comments

MSHA is soliciting comments concerning the proposed extension of the information collection related to the occupational noise standard. MSHA is particularly interested in comments that:

• Evaluate whether the collection of information is necessary for the proper performance of MSHA's functions, including whether the information has practical utility;

• Evaluate the accuracy of MSHA's estimate of the burden of the collection of information, including the validity of the methodology and assumptions used;

• Suggest methods to enhance the quality, utility, and clarity of the information to be collected; and

• Address the use of appropriate automated, electronic, mechanical, or other technological collection techniques or other forms of information technology, e.g., permitting electronic submissions of responses, to minimize the burden of the collection of information on those who are to respond.

The public may examine publicly available documents, including the public comment version of the supporting statement, at MSHA, Office of Standards, Regulations, and Variances, 1100 Wilson Boulevard, Room 2350, Arlington, VA 22209-3939. OMB clearance requests are available on MSHA's Web site at http://www.msha.gov under “Rules & Regs” on the right side of the screen by selecting Information Collections Requests, Paperwork Reduction Act Supporting Statements. The public comment version of the supporting statement will be available on MSHA's Web site for 60 days after the publication date of this notice. Comments submitted in writing or in electronic form will be made available for public inspection. Because comments will not be edited to remove any identifying or contact information, MSHA cautions the commenter against including any information in the submission that should not be publicly disclosed. Questions about the information collection requirements may be directed to the person listed in the FOR FURTHER INFORMATION CONTACT section of this notice.

III. Current Actions

The information obtained from mine operators is used by MSHA during inspections to determine compliance with this standard in order to reduce occupation-related hearing loss in miners. MSHA has updated the data in respect to the number of respondents and responses, as well as the total burden hours and burden costs supporting this information collection extension request.

Type of Review: Extension.

Agency: Mine Safety and Health Administration.

Title: Occupational Noise Exposure.

OMB Number: 1219-0120.

Affected Public: Business or other for-profit.

Cite/Reference/Form/etc: 30 CFR Part 62.

Total Number of Respondents: 13,245.

Frequency: Various.

Total Number of Responses: 177,992.

Estimated Total Burden Hours: 12,455.

Estimated Total Burden Cost: $33,880.

Comments submitted in response to this notice will be summarized and included in the request for Office of Management and Budget approval of the information collection request; they will also become a matter of public record.

Authority: 44 U.S.C. 3506(c)(2)(A).

Patricia W. Silvey,
Certifying Officer.

[FR Doc. 2012-6872 Filed 3-21-12; 8:45 am]

BILLING CODE 4510-43-P